DEPARTMENT OF JUSTICE

Antitrust Division

Notice Pursuant to the National Cooperative Research and Production Act of 1993—Association for Information and Image Management

Notice is hereby given that, on September 15, 2004, pursuant to section 6(a) of the National Cooperative Research and Production Act of 1993, 15 U.S.C. 4301 et seq. (“the Act”), Association for Information and Image Management (“AIIM”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Association for Information and Image Management, Silver Spring, MD. The nature and scope of AIIM's standards development activities are: Standardization of terminology, definitions, sizes, formats, quality, methods of measurement, apparatuses and procedures for the production, use and storage, and retrieval of information images and related source data. Standards, recommended practices, and technical reports prepared in accordance with AIIM's policies and procedures are intended to have broad national acceptance, as well as provide the basis upon which to achieve international accord in the development of ISO standards.

Dorothy B. Fountain,
Deputy Director of Operations, Antitrust Division.

[FR Doc. 04-25844 Filed 11-19-04; 8:45 am]

BILLING CODE 4410-11-M